DEPARTMENT OF COMMERCE

International Trade Administration

[C-570-931]

Circular Welded Austenitic Stainless Pressure Pipe From the People's Republic of China: Final Results of Expedited Third Sunset Review of the Countervailing Duty Order

AGENCY: Enforcement and Compliance, International Trade Administration, Department of Commerce.

SUMMARY: The U.S. Department of Commerce (Commerce) finds that revocation of the countervailing duty (CVD) order on circular welded austenitic stainless pressure pipe (WSPP) from the People's Republic of China (China) would be likely to lead to continuation or recurrence of countervailable subsidies at the levels indicated in the “Final Results of Sunset Review” section of this notice.

DATES: Applicable March 7, 2025.

FOR FURTHER INFORMATION CONTACT: Diane Finver, Trade Agreements Policy and Negotiations, Enforcement and Compliance, International Trade Administration, U.S. Department of Commerce, 1401 Constitution Avenue NW, Washington, DC 20230; telephone: (202) 482-6299.

SUPPLEMENTARY INFORMATION:

Background

On March 19, 2009, Commerce published the CVD order on WSPP from China.¹ On November 4, 2024, Commerce published the notice of initiation of the third sunset review of the Order, pursuant to section 751(c) of the Tariff Act of 1930, as amended (the Act).² On November 15, 2024, Commerce received a timely notice of intent to participate from Bristol Metals, LLC., Felker Brothers Corporation, and Primus Pipe and Tube Inc. (collectively, domestic interested parties).³ The domestic interested parties claimed interested party status under section 771(9)(C) of the Act and 19 CFR 351.102(b)(29)(v) as producers of the domestic like product in the United States.⁴

¹ See Circular Welded Austenitic Stainless Pressure Pipe from the People's Republic of China: Countervailing Duty Order, 74 FR 11712 (March 19, 2009) (Order).

² See Initiation of Five-Year (Sunset) Reviews, 89 FR 87543 (November 4, 2024).

³ See Domestic Interested Parties' Letter, “Welded Stainless Steel Pressure Pipe from China: Notice of Intent to Participate,” dated November 15, 2024.

⁴ Id.

Commerce received a substantive response from the domestic interested parties within the 30-day deadline specified in 19 CFR 351.218(d)(3)(i).⁵ We received no substantive response from the Government of China or any other interested party in this proceeding. On December 26, 2024, Commerce notified the U.S. International Trade Commission that it did not receive an adequate substantive response from respondent interested parties.⁶ As a result, pursuant to section 751(c)(3)(B) of the Act and 19 CFR 351.218(e)(1)(ii)(B)(2) and (C)(2), we determined that the respondent interested parties did not provide an adequate response to the notice of initiation and, therefore, Commerce conducted an expedited (120-day) sunset review of the Order.

⁵ See Domestic Interested Parties' Letter, “Five-Year (“Sunset”) Review of the Countervailing Duty Order on Welded Stainless Steel Pressure Pipe from the People's Republic of China: Domestic Interested Parties' Substantive Response,” dated December 4, 2024.

⁶ See Commerce's Letter, “Sunset Reviews Initiated on November 4, 2024,” dated December 26, 2024.

Scope of the Order

The product covered by the Order is circular welded austenitic stainless pressure pipe from China. For a complete description of the scope of the Order, see the Issues and Decision Memorandum.⁷

⁷ See Memorandum, “Issues and Decision Memorandum for the Final Results of the Expedited Third Sunset Review of the Countervailing Duty Order on Circular Welded Austenitic Stainless Pressure Pipe from the People's Republic of China,” dated concurrently with, and hereby adopted by, this notice (Issues and Decision Memorandum).

Analysis of Comments Received

All issues raised in this sunset review, including the likelihood of continuation or recurrence of subsidization and the countervailable subsidy rates likely to prevail if the Order were to be revoked, are addressed in the Issues and Decision Memorandum. A list of topics discussed in the Issues and Decision Memorandum is included in the appendix to this notice. The Issues and Decision Memorandum is a public document and is on file electronically via the Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c)(1) and 752(b) of the Act, we determine that revocation of the Order would be likely to lead to continuation or recurrence of countervailable subsidies at the following net countervailable subsidy rates:

Company | Subsidy rate (percent)
Winner Stainless Steel Tube Co. Ltd./Winner Steel Products (Guangzhou) Co., Ltd./Winner Machinery Enterprises Company Limited | 1.10
Froch Enterprise Co. Ltd. (also known as Zhangyuan Metal Industry Co. Ltd.) | 299.16
All Others | 1.10

Administrative Protective Order (APO)

This notice serves as the only reminder to parties subject to an APO of their responsibility concerning the return or destruction of proprietary information disclosed under an APO in accordance with 19 CFR 351.305(a), which continues to govern business proprietary information in this segment of the proceeding. Timely notification of the return or destruction of APO materials or conversion to judicial protective order is hereby requested. Failure to comply with the regulations and terms of an APO is a violation which is subject to sanction.

Notification to Interested Parties

We are issuing and publishing the final results and this notice in accordance with sections 751(c), 752(b), and 777(i)(1) of the Act, and 19 CFR 351.218.

Dated: March 3, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2025-03712 Filed 3-6-25; 8:45 am]

BILLING CODE 3510-DS-P